DEPARTMENT OF COMMERCE

Foreign-Trade Zones Board

(Docket 65-2008)

Foreign-Trade Zone 207 Richmond, Virginia, Withdrawal of Request for Subzone Status, Qimonda North America Corporation, Sandston, Virginia

Notice is hereby given of the withdrawal of the application of the Capital Region Airport Commission, grantee of FTZ 207, requesting special-purpose subzone status on behalf of Qimonda North America Corporation in Sandston, Virginia. The application was filed on December 2, 2008 (73 FR 76613, 12/17/2008).

The case has been closed without prejudice.

Dated: February 24, 2009.
Andrew McGilvray,
Executive Secretary.

[FR Doc. E9-4469 Filed 3-2-09; 8:45 am]

BILLING CODE 3510-DS-S